DEPARTMENT OF COMMERCE

National Oceanic and Atmospheric Administration

Federal Consistency Appeal by Pan American Grain Co.

AGENCY: National Oceanic and Atmospheric Administration (NOAA), Department of Commerce.

ACTION: Notice of Stay—Closure of Administrative Appeal Decision Record.

SUMMARY: This announcement provides notice that the Secretary of Commerce has stayed, for a period of sixty (60) days, closure of the decision record in an administrative appeal filed by Pan American Grain Co. (Pan American).

DATES: The decision record for the Pan American Federal Consistency Appeal now closes on October 4, 2010.

ADDRESSES: NOAA, Office of General Counsel for Ocean Services, 1305 East-West Highway, Room 6111, Silver Spring, MD 20910.

FOR FURTHER INFORMATION CONTACT: Gladys P. Miles, Attorney-Advisor, NOAA, Office of General Counsel, 301-713-7384, or at gcos.inquiries@noaa.gov.

SUPPLEMENTARY INFORMATION:

On January 27, 2010, Pan American Grain Co. filed notice of an appeal with the Secretary of Commerce (Secretary), pursuant to the Coastal Zone Management Act of 1972 (CZMA), 16 U.S.C. 1451 et seq., and implementing regulations found at 15 CFR part 930, subpart H. The appeal is taken from an objection by the Puerto Rico Planning Board to Pan American's consistency certification for a U.S. Army Corps of Engineer permit for proposed improvements to its port facilities located in San Juan Bay, Puerto Rico. Notice of this appeal was published in the Federal Register on February 26, 2010. See 75 FR 8919.

Under the CZMA, the Secretary must close the decision record in an appeal 160 days after the notice of appeal is published in the Federal Register. 16 U.S.C. 1465. The CZMA, however, authorizes the Secretary to stay closing of the decision record for up to 60 days when the Secretary determines it is necessary to receive, on an expedited basis, any supplemental information specifically requested by the Secretary to complete consistency review. 16 U.S.C. 1465(b)(3).

After reviewing the decision record developed to date, the Secretary has determined that supplemental and clarifying information needs to be requested in order to complete consistency review. In order to allow receipt of this information, the Secretary hereby stays closure of the decision record until October 4, 2010.

Additional information on this appeal is available at the NOAA, Office of General Counsel for Ocean Services, 1305 East-West Highway, Room 6111, Silver Spring, MD 20910 and on the following Web site: http://www.ogc.doc.gov/czma.htm.

[Federal Domestic Assistance Catalog No. 11.419 Coastal Zone Management Program Assistance.]

Dated: August 2, 2010.
Joel La Bissonniere,
Assistant General Counsel for Ocean Services, NOAA.

[FR Doc. 2010-19297 Filed 8-4-10; 8:45 am]

BILLING CODE P